DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for June 27-28, 2000, beginning at 8:30 a.m. on June 27. Arrange for oral presentations by June 22.

ADDRESSES: Boeing Commercial Airplane Group, 535 Garden Avenue, N., Building 10-16, Renton, WA.

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held June 27-28, in Renton, WA.

The agenda will include:

June 27

• Opening Remarks

• FAA Report

• Joint Aviation Authorities Report

• Transport Canada Report

• Executive Committee Meeting Report

• Harmonization Management Team Report

• Engine Harmonization Working Group (HWG) Report

• Avionics Systems HWG Report and Vote

• Flight Guidance System HWG Report and Vote

• Systems Design and Analysis HWG Report

• Ice Protection HWG Report

• Powerplant Installation HWG Report and Vote

• Seat Test HWG Report

• Design for Security HWG Report and Vote

June 28

• Braking System HWG Report and vote

• General Structures HWG Report and Vote

• Airworthiness Assurance HWG Report

• Flight Test HWG Report and Vote

• Electromagnetic Effects HWG Report

• Loads & Dynamics HWG Report and Vote

• Flight Controls HWG Report and Vote

• Mechanical Systems HWG Report and Vote

• Electrical Systems HWG Report and Vote

Nine HWGs-Avionics Systems, Flight Guidance System, Powerplant Installation, General Structures, Flight Test, Loads & Dynamics, Flight Controls, Mechanical Systems, and Electrical Systems—plan to request approval of technical reports drafted under the Fast Track process. The Design for Security HWG plans to seek approval of its phase 1 report.

The Braking Systems HWG plans to request a vote to submit a proposed disposition of comments to the FAA. The disposition of comments relate to a proposed rule on brakes and braking systems certification tests and analysis that was published in the Federal Register on August 10, 1999; the comment period closed November 8, 1999 (64 FR 43570).

Attendance is open to the public, but will be limited to the space available. Visitor badges are required to gain entrance to the building in which the meeting is being held. Please confirm your attendance with Norm Turner, (425) 234-3312, or by e-mail, norman.g.turner@Boeing.com. Please provide the following information: full legal name, country of citizenship, and name of your company, if applicable.

The public must make arrangements by June 22 to present oral statements at the meeting. Written statements may be presented to the committee at any time by providing 25 copies to the Assistant Executive Director for Transport Airplane and Engine issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretational, as well as a listening device, can be made available if requested 10 calendar days before the meeting.

Issued in Washington, DC on June 8, 2000.
Florence L. Hamn,
Acting Director, Office of Rulemaking.

[FR Doc. 00-14913 Filed 6-13-00; 8:45 am]

BILLING CODE 4910-13-M